ENVIRONMENTAL PROTECTION AGENCY

40 CFR Part 52

[MI76-01-7285b; FRL-7023-3]

Approval and Promulgation of Maintenance Plan Revisions; Michigan

AGENCY: Environmental Protection Agency.

ACTION: Proposed rule.

SUMMARY: The Environmental Protection Agency (EPA) is proposing to approve a March 22, 2001, request from Michigan for a State Implementation Plan (SIP) revision of the Muskegon County, Michigan ozone maintenance plan. The maintenance plan revision allocates a portion of the safety margin to the transportation conformity Mobile Vehicle Emissions Budget (MVEB) for the year 2010. EPA is approving the allocation of 2.14 tons per day of Volatile Organic Compounds (VOC) and 3.27 tons/day of Oxides of Nitrogen ( NOX) to the area's 2010 MVEB. This allocation will still maintain the total emissions for the area below the attainment level required by the transportation conformity regulations. In the Final Rules section of this Federal Register, EPA is approving the State's SIP revision, as a direct final rule without prior proposal, because the Agency views this as a noncontroversial revision and anticipates no adverse comments. A detailed rationale for the approval is set forth in the direct final rule. If we receive no adverse comments in response to that direct final rule we plan to take no further action in relation to this proposed rule. If we receive written adverse comments which we have not addressed, we will withdraw the direct final rule and address all public comments received in a subsequent final rule based on this proposed rule. The EPA will not institute a second comment period on this action.

DATES: Written comments must be received on or before September 5, 2001.

ADDRESSES: Send written comments to: Carlton Nash, Chief, Regulation Development Section, Air Programs Branch, (AR-18J), U.S. Environmental Protection Agency, Region 5, 77 West Jackson Boulevard, Chicago, Illinois, 60604. You may inspect copies of the documents relevant to this action during normal business hours at the following location:

Regulation Development Section, Air Programs Branch, (AR-18J), U.S. Environmental Protection Agency, Region 5, 77 West Jackson Boulevard, Chicago, Illinois, 60604.

Please contact Michael G. Leslie at (312) 353-6680 before visiting the Region 5 office.

FOR FURTHER INFORMATION CONTACT: Michael G. Leslie, Environmental Engineer, Regulation Development Section, Air Programs Branch (AR-18J), U.S. Environmental Protection Agency, Region 5, 77 West Jackson Boulevard, Chicago, Illinois 60604, (312) 353-6680.

SUPPLEMENTARY INFORMATION:

Where Can I Find More Information About This Proposal and the Corresponding Direct Final Rule?

For additional information see the direct final rule published in the rules section of this Federal Register.

Dated: July 23, 2001.
David Ullrich,
Acting Regional Administrator, Region 5.

[FR Doc. 01-19459 Filed 8-3-01; 8:45 am]

BILLING CODE 6560-50-P